DEPARTMENT OF ENERGY

Energy Information Administration

Agency Information Collection Extension

AGENCY: U.S. Energy Information Administration (EIA), U.S. Department of Energy (DOE).

ACTION: Notice.

SUMMARY: EIA submitted an information collection request for extension as required by the Paperwork Reduction Act of 1995. The information collection requests a three-year extension of its Form EIA-63C, Densified Biomass Fuel Report, OMB Control Number 1905-0209. The report is part of EIA's comprehensive energy data program. Form EIA-63C collects monthly data on the manufacture, shipment, exports, energy characteristics, and sales of densified biomass fuels and other densified biomass fuel products data from facilities that manufacture densified biomass fuel products (pellet fuels), for energy applications.

DATES: Comments on this information collection must be received no later than August 19, 2021. Written comments and recommendations for the proposed information collection should be sent within 30 days of publication of this notice to www.reginfo.gov/public/do/PRAMain. Find this particular information collection by selecting “Currently under 30-day Review—Open for Public Comments” or by using the search function.

FOR FURTHER INFORMATION CONTACT: Connor Murphy, EI-23, U.S. Energy Information Administration, telephone (202) 287-5982, email Connor.Murphy@eia.gov. The form and instructions are available at https://www.eia.gov/survey/#eia-63.

SUPPLEMENTARY INFORMATION:

This information collection request contains:

(1) OMB No.: 1905-0209;

(2) Information Collection Request Title: Densified Biomass Fuel Report;

(3) Type of Request: Three-year extension without changes;

(4) Purpose: Form EIA-63C is part of EIA's comprehensive energy data program. The survey collects information on the manufacture, shipment, exports, energy characteristics, and sales of pellet fuels and other densified biomass fuel products data from facilities that manufacture densified biomass fuel products, primarily pellet fuels, for energy applications. The data collected on Form EIA-63C are a primary source of information for the nation's growing production of biomass products for heating and electric power generation, and for use in both domestic and foreign markets.

(5) Annual Estimated Number of Respondents: 106;

(6) Annual Estimated Number of Total Responses: 1,041;

(7) Annual Estimated Number of Burden Hours: 1,433;

(8) Annual Estimated Reporting and Recordkeeping Cost Burden: The cost of the burden hours is estimated to be $117,004 (1,433 burden hours times $81.65 per hour). EIA estimates that respondents will have no additional costs associated with the surveys other than the burden hours and the maintenance of the information during the normal course of business.

Statutory Authority: 15 U.S.C. 772(b), 42 U.S.C. 7101 et seq.

Signed in Washington, DC, on July 14th, 2021.
Samson A. Adeshiyan,
Director, Office of Statistical Methods and Research, U.S. Energy Information Administration.

[FR Doc. 2021-15355 Filed 7-19-21; 8:45 am]

BILLING CODE 6450-01-P